NUCLEAR REGULATORY COMMISSION

Consolidated Guidance About Materials Licenses: Guidance for Agreement State Licensees About NRC Form 241 “Report of Proposed Activities in Non-Agreement States, Areas of Exclusive Federal Jurisdiction, or Offshore Waters' and Guidance for NRC Licensees Proposing To Work in Agreement State Jurisdiction (Reciprocity)

AGENCY: U.S. Nuclear Regulatory Commission (NRC).

ACTION: Notice of availability of final NUREG.

SUMMARY: The NRC is announcing the availability of the final NUREG-1556, Volume 19, “Consolidated Guidance About Materials Licenses: Guidance For Agreement State Licensees About NRC Form 241 “Report of Proposed Activities in Non-Agreement States, Areas of Exclusive Federal Jurisdiction, or Offshore Waters' and Guidance For NRC Licensees Proposing to Work in Agreement State Jurisdiction (Reciprocity),” dated December 2000.

The NRC is using Business Process Redesign techniques to redesign its materials licensing process, as described in NUREG-1539, “Methodology and Findings of the NRC's Materials Licensing Process Redesign.” A critical element of the new process is consolidating and updating numerous guidance documents into a NUREG-series of reports. This final NUREG report is the nineteenth guidance document developed to support an improved materials licensing process.

This guidance is intended for use by Agreement State licensees, NRC licensees, NRC staff, and will also be available to Agreement States. This document also provides contact organization guidance to NRC licensees who wish to work in Agreement States.

This document combines and updates the guidance for applicants and licensees previously found in NRC Inspection Manual Chapter 1220, “Processing of ‘Report of Proposed Activities in Non-Agreement States, Areas of Exclusive Federal Jurisdiction, and Offshore Waters,’ and Inspection of Agreement State Licensees Operating Under 10 CFR 150.20”; NRC Information Notice No. 90-15: “Reciprocity: Notification Of Agreement State Radiation Control Directors Before Beginning Work In Agreement States”; All Agreement States Letter 96-022, Policy and Guidance Directives (P&GD) 83-19 “Jurisdiction at Reactor Facilities” and 84-17 “Jurisdiction 10 CFR parts 30, 40 and 70 Licenses at Reactor Facilities.” In addition, this final report contains pertinent information found in Technical Assistance Requests and Information notices, as listed in Appendix F of the NUREG.

A free single copy of final NUREG-1556, Volume 19, may be requested by writing to the U.S. Nuclear Regulatory Commission, ATTN: Mrs. Carrie Brown, Mail Stop TWFN 9-C24, Washington, DC. 20555-0001. Alternatively, submit requests through the Internet by addressing electronic mail to cxb@nrc.gov. A copy of the final NUREG-1556, Volume 19, is also available for inspection and/or copying for a fee in the NRC Public Document Room, 2120 L Street, NW. (Lower Level), Washington, DC. 20555-0001.

FOR FURTHER INFORMATION CONTACT: Mrs. Carrie Brown, TWFN 9-F-C24, Division of Industrial and Medical Nuclear Safety, Office of Nuclear Material Safety and Safeguards, U.S. Nuclear Regulatory Commission, Washington, DC. 20555, telephone (301) 415-8092; electronic mail address: cxb@nrc.gov.

Electronic Access

Final NUREG-1556, Volume 19, is available electronically by visiting the NRC's Home Page (http://www.nrc.gov/nrc/nucmat.html).

Dated at Rockville, Maryland, this 9th day of January, 2001.
For the Nuclear Regulatory Commission.
Patricia K. Holahan,
Chief, Rulemaking and Guidance Branch, Division of Industrial and Medical Nuclear Safety, NMSS.

[FR Doc. 01-1600 Filed 1-19-01; 8:45 am]

BILLING CODE 7590-01-P